ENVIRONMENTAL PROTECTION AGENCY

[EPA-HQ-OECA-2014-0025; FRL-9989-42-OEI]

Information Collection Request Submitted to OMB for Review and Approval; Comment Request; NESHAP for Asbestos (Renewal)

AGENCY: Environmental Protection Agency (EPA).

ACTION: Notice.

SUMMARY: The Environmental Protection Agency has submitted an information collection request (ICR), “NESHAP for Asbestos, Subpart M) (Renewal)” (EPA ICR No. 0111.15, OMB Control No. 2060-0101), to the Office of Management and Budget (OMB) for review and approval in accordance with the Paperwork Reduction Act. This is a proposed extension of the ICR, which is currently approved through March 31, 2019. Public comments were previously requested, via the Federal Register (82 FR 29552) on June 29, 2017 during a 60-day comment period, and through a second announcement published (83 FR 48612) on September 26, 2018 to account for changes in reporting and recordkeeping resulting from a recent action on an alternative work practice, and a planned change to allow electronic reporting for notifications. This notice allows for an additional 30 days for public comments. A fuller description of the ICR is given below, including its estimated burden and cost to the public. An Agency may neither conduct or sponsor, and a person is not required to respond to, a collection of information unless it displays a currently valid OMB control number.

DATES: Additional comments may be submitted on or before April 22, 2019.

ADDRESSES: Submit your comments, referencing Docket ID Number EPA-HQ-OECA-2014-0025, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is (202) 566-1744. For additional information about EPA's public docket, visit: www.epa.gov/dockets.

Abstract: For the Asbestos NESHAP ICR, owners and operators of affected facilities are required to comply with reporting and recordkeeping requirements for the General Provisions (40 CFR part 61, subpart M), as well as for the applicable specific standards. This includes submitting initial notifications, performance tests, and periodic reports and results, maintaining records of the occurrence and duration of any startup, shutdown, or malfunction in the operation of an affected facility, or any period during which the monitoring system is inoperative. These reports are used by the EPA to determine compliance with these standards.

Form numbers: None.

Respondents/affected entities: Demolition and renovation facilities; disposal of asbestos wastes; asbestos milling, manufacturing and fabricating; use of asbestos on roadways; asbestos waste conversion facilities; and the use of asbestos insulation and spray-on materials.

Respondent's obligation to respond: Mandatory (40 CFR part 61, subpart M).

Estimated number of respondents: 9,687 (total).

Frequency of response: Initially, occasionally, quarterly and semiannually.

Total estimated burden: 287,000 hours (per year). Burden is defined at 5 CFR 1320.3(b).

Total estimated cost: $32,700,000 (per year), which includes $0 in annualized capital/startup and/or operation & maintenance costs.

Changes in the estimates: There is a decrease in the total estimated burden as currently identified in the OMB Inventory of Approved Burdens. The change is due to the addition of electronic reporting. The result is a reduction in burden by 5,050 hours per year. We expect there to be an initial burden for respondents to learn the new electronic reporting system, and a reduced burden over time to submit notifications electronically (as compared to submitting them through the U.S. mail, the currently required process). We expect the regulated community and states in Region 3 to adopt electronic submission of 40 CFR 61.145(b) notifications gradually, with other Regions and their regulated community to follow. Therefore, although we have conservatively estimated that approximately 10 percent of the respondents use electronic reporting in this renewal, we expect the number of respondents using electronic reporting to increase in the coming years, which will result in additional burden reductions over time.

We have updated the respondent and Agency burdens to include an AWP for ACPRPs. Burden associated with the CTPS AWP is due to the collection and retention of samples and the requirement to report malfunctions. Other changes, such as recordkeeping and notations to the utility records (in the case of ACPRP using the AWP) or notation to the deed are unchanged. Industry sources estimated “there would eventually be 100 (pipe replacement) companies that would use the close tolerance horizontal directional drilling method over the years with the majority of the (A/C pipe) footage being installed by 25 companies.”

Finally, we have updated the number of respondents to accurately reflect industry growth from the prior renewal, and updated the respondent and Agency labor rates, which are referenced from the Bureau of Labor Statistics and OPM, respectively. The overall result is a decrease in burden; however, the revised labor rates and industry growth result in an increase in respondent labor costs.

Courtney Kerwin,
Director, Regulatory Support Division.

[FR Doc. 2019-05511 Filed 3-21-19; 8:45 am]

BILLING CODE 6560-50-P